DEPARTMENT OF COMMERCE

National Oceanic and Atmospheric Administration

[RTID 0648-XA148]

New England Fishery Management Council; Public Meeting

AGENCY: National Marine Fisheries Service (NMFS), National Oceanic and Atmospheric Administration (NOAA), Commerce.

ACTION: Notice of public meeting via webinar.

SUMMARY: The New England Fishery Management Council's is convening an ad-hoc sub-panel of its Scientific and Statistical Committee (SSC) to conduct a peer review of an interdisciplinary review of Atlantic Cod stock structure in the Western North Atlantic Ocean via webinar to consider actions affecting New England fisheries in the exclusive economic zone (EEZ). Recommendations from this group will be brought to the full Council for formal consideration and action, if appropriate.

DATES: This webinar will be held for three days beginning on Monday, May 18, 2020 through Wednesday, May 20, 2020 and will begin each day at 9 a.m.Webinar registration URL information: https://attendee.gotowebinar.com/rt/6183591128820865293. Call in information: Phone: +1 (415) 655-0052; Access Code: 805-785-106

ADDRESSES: The meeting will be held via webinar.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

An ad-hoc peer review subpanel Scientific and Statistical Committee (SSC) will meet via webinar to review An Interdisciplinary Review of Atlantic Cod (Gadus morhua) Stock Structure in the Western North Atlantic Ocean prepared by the Atlantic Cod Stock Structure Working Group organized specifically to complete this report.

Although non-emergency issues not contained on the agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Thomas A. Nies, Executive Director, at (978) 465-0492, at least 5 days prior to the meeting date.

Authority: Authority: 16 U.S.C. 1801 et seq.

Dated: April 27, 2020.
Tracey L. Thompson,
Acting Deputy Director, Office of Sustainable Fisheries, National Marine Fisheries Service.

[FR Doc. 2020-09228 Filed 4-29-20; 8:45 am]

BILLING CODE 3510-22-P